FEDERAL COMMUNICATIONS COMMISSION

47 CFR Part 64

[CG Docket No. 17-59, WC Docket No. 17-97, FCC 22-37; FR ID 115487]

Advanced Methods To Target and Eliminate Unlawful Robocalls, Call Authentication Trust Anchor

AGENCY: Federal Communications Commission.

ACTION: Final rule and announcement of effective and compliance dates.

SUMMARY: In this document, the Commission announces that the Office of Management and Budget (OMB) has approved, for a period of three years, an information collection associated with the Commission's Sixth Report and Order and Fifth Report and Order (Order) gateway provider rules. This document is consistent with the Order, which stated that the Commission would publish a document in the Federal Register announcing the compliance dates of those rules, and to cause those rules to be revised accordingly.

DATES: Effective date: This rule is effective January 11, 2023.

Compliance dates: The compliance date for § 64.6303(b) is June 30, 2023. The compliance date for § 64.6305(b), (c)(2), and (d), is January 11, 2023. The compliance date for § 64.6305(e)(2) and (3) is April 11, 2023.

FOR FURTHER INFORMATION CONTACT: Jonathan Lechter, Competition Policy Division, Wireline Competition Bureau, at (202) 418-0984, or email: jonathan.lechter@fcc.gov.

SUPPLEMENTARY INFORMATION: This document announces that, on October 13, 2022, OMB approved, for a period of three years, information collection requirements relating to the amended rules contained in the Commission's Order, FCC 22-37, published at 87 FR 42916 on July 18, 2022 (47 CFR 64.6303(b), 64.6305(d)). The rule amending § 64.6305(b) did not contain information collection requirements, and therefore, the Wireline Competition Bureau did not seek OMB approval. On June 2, 2022, OMB approved other information collection requirements related to an amended rule contained in the Commission's Order (47 CFR 64.6305(c)(2)). The OMB Control Number is 3060-1285.

Compliance with these rule amendments, along with amendments to 47 CFR 64.6305(b), was delayed indefinitely in 87 FR 42916. Compliance with the rules amending 47 CFR 64.6305(e)(2) and (3) was also delayed indefinitely because they contained compliance dates that could not be set until Federal Register notice of OMB approval of the information collection requirements associated with 47 CFR 64.6305(d). In the Order and the text of 47 CFR 64.6303(b), 64.6305(b) through (d), the Commission directed the Wireline Competition Bureau to announce the compliance dates for these rule amendments and to cause the rule text to be revised accordingly.

The Commission publishes this document as an announcement of the compliance dates of amendments to 47 CFR 64.6303(b), 64.6305(b), (c)(2), (d), and (e)(2) and (3) and to modify the text of these rules previously published at 87 FR 42916 (July 18, 2022), to incorporate these dates and eliminate text referring to pending approval of information collection requirements by OMB.

If you have any comments on the burden estimates listed below, or how the Commission can improve the collections and reduce any burdens caused thereby, please contact Nicole Ongele, Federal Communications Commission, 45 L Street NE, Washington, DC 20554. Please include the OMB Control Number, 3060-1285, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on October 13, 2022 for the information collection requirements contained in the modifications to the Commission's rules in 47 CFR part 64 (47 CFR 64.6303(b), 64.6305(d)) and on June 2, 2022 for the information collection requirements contained in the modifications to 47 CFR 64.6305(c)(2). The Wireline Competition Bureau also determined that 47 CFR 64.6305(b) did not contain information collection requirements. These actions allow the Wireline Competition Bureau to set the compliance dates for these rules, as well as for 47 CFR 64.6305(e)(2) and (3). It is therefore modifying the language of 47 CFR 64.6303(b) and 64.6305(b) through (e) to incorporate compliance dates and eliminate text referring to pending approval by OMB.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1285.

The foregoing is required by the Paperwork Reduction Act of 1995 (Pub. L. 104-13) October 1, 1995, and 44 U.S.C. 3507.

The total annual reporting burdens and costs for the respondents are as follows:

OMB Control Number: 3060-1285.

OMB Approval Date: October 13, 2022.

OMB Expiration Date: October 31, 2025.

Title: Compliance with the Non-IP Call Authentication Solutions Rules; Robocall Mitigation Database (RMD).

Form Number: N/A.

Respondents: Business or other for-profit entities.

Number of Respondents and Responses: 8,970 respondents; 8,970 responses.

Estimated Time per Response: 2.29 hours (on average).

Frequency of Response: Recordkeeping requirement and on-occasion and reporting requirement.

Obligation to Respond: Mandatory and required to obtain or retain benefits. The statutory authority for this information collection is contained in 47 U.S.C 227(b), 251(e), and 227(e) of the Communications Act of 1934.

Total Annual Burden: 20,503 hours.

Total Annual Cost: No Cost.

Nature and Extent of Confidentiality: The Commission will consider the potential confidentiality of any information submitted, particularly where public release of such information could raise security concerns (e.g., granular location information). Respondents may request materials or information submitted to the Commission or to the Administrator be withheld from public inspection under 47 CFR 0.459 of the Commission's rules.

Privacy Act Impact Assessment: No impact(s).

Needs and Uses: Sections 227(b), 251(e), and 227(e) of the Communications Act of 1934, (“Act”) as amended, 47 U.S.C. 227(b), 251(e), and 227(e). On May 20, 2022, the Commission released the Order, FCC 22-37, published at 87 FR 42916, July 18, 2022, adopting final rules containing information collection requirements designed to promote caller ID authentication technology. These rules governing gateway providers, among other entities, implement the Pallone-Thune Telephone Robocall Abuse Criminal Enforcement and Deterrence Act (TRACED Act), promote the deployment of caller ID authentication technology, and combat the practice of illegal caller ID spoofing.

List of Subjects in 47 CFR Part 64

Carrier equipment, Communications common carriers, Reporting and recordkeeping requirements, Telecommunications, Telephone.

Federal Communications Commission.
Marlene Dortch,
Secretary.

Final Rules

For the reasons discussed in the preamble, the Federal Communications Commission amends 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

§ 64.6303 [Amended]

2. Amend § 64.6303 by removing paragraph (b)(3).

3. Amend § 64.6305 by:

a. Removing paragraphs (b)(3) and (c)(6);

b. Revising paragraph (d)(1) introductory text;

c. Removing paragraph (d)(6); and

d. Revising paragraphs (e)(2) and (3).

The revisions read as follows:

§ 64.6305 Robocall mitigation and certification.

* * * * *

(d) * * *

(1) By January 11, 2023, a gateway provider shall certify to one of the following:

* * * * *

(e) * * *

(2) Accepting traffic from foreign providers. Beginning April 11, 2023, intermediate providers and voice service providers shall accept calls directly from a foreign voice service provider or foreign intermediate provider that uses North American Numbering Plan resources that pertain to the United States in the caller ID field to send voice traffic to residential or business subscribers in the United States, only if that foreign provider's filing appears in the Robocall Mitigation Database in accordance with paragraph (c) of this section and that filing has not been de-listed pursuant to an enforcement action.

(3) Accepting traffic from gateway providers. Beginning April 11, 2023, intermediate providers and voice service providers shall accept calls directly from a gateway provider only if that gateway provider's filing appears in the Robocall Mitigation Database in accordance with paragraph (d) of this section, showing that the gateway provider has affirmatively submitted the filing, and that filing has not been de-listed pursuant to an enforcement action.

* * * * *

[FR Doc. 2022-26483 Filed 12-9-22; 8:45 am]

BILLING CODE 6712-01-P